DEPARTMENT OF TRANSPORTATION

Federal Aviation Administration

14 CFR Part 39

[Docket No. FAA-2018-1010; Product Identifier 2018-NM-148-AD; Amendment 39-19596; AD 2019-05-14]

RIN 2120-AA64

Airworthiness Directives; Dassault Aviation Airplanes

AGENCY: Federal Aviation Administration (FAA), Department of Transportation (DOT).

ACTION: Final rule; removal of Airworthiness Directive (AD).

SUMMARY: We are removing AD 2012-02-18, which applied to all Dassault Aviation Model MYSTERE-FALCON 50 airplanes. AD 2012-02-18 required revising the maintenance program to include revised airworthiness limitations. We issued AD 2012-02-18 to address cracking of the flap tracks, which could lead to flap asymmetry and loss of control of the airplane. Since we issued AD 2012-02-18, we have issued AD 2017-09-03 to address the unsafe condition. Accordingly, AD 2012-02-18 is removed.

DATES: This AD becomes effective March 28, 2019.

ADDRESSES:

Examining the AD Docket

You may examine the AD docket on the internet at http://www.regulations.gov by searching for and locating Docket No. FAA-2018-1010; or in person at Docket Operations between 9 a.m. and 5 p.m., Monday through Friday, except Federal holidays. The AD docket contains this AD, the regulatory evaluation, any comments received, and other information. The address for Docket Operations (telephone 800-647-5527) is U.S. Department of Transportation, Docket Operations, M-30, West Building Ground Floor, Room W12-140, 1200 New Jersey Avenue SE, Washington, DC 20590.

FOR FURTHER INFORMATION CONTACT: Tom Rodriguez, Aerospace Engineer, International Section, Transport Standards Branch, FAA, 2200 South 216th St., Des Moines, WA 98198; telephone and fax 206-231-3226.

SUPPLEMENTARY INFORMATION:

Discussion

We issued a notice of proposed rulemaking (NPRM) to amend 14 CFR part 39 by removing AD 2012-02-18, Amendment 39-16941 (77 FR 12175, February 29, 2012) (“AD 2012-02-18”). AD 2012-02-18 applied to all Dassault Aviation Model MYSTERE-FALCON 50 airplanes. The NPRM published in the Federal Register on December 28, 2018 (83 FR 67155). The NPRM was prompted by a determination that AD 2012-02-18 is no longer necessary because we have since issued AD 2017-09-03, Amendment 39-18865 (82 FR 21467, May 9, 2017) to address the unsafe condition. The NPRM proposed to remove AD 2012-02-18. We are issuing this AD to remove AD 2012-02-18.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for addressing the unsafe condition; and

• Do not add any additional burden upon the public than was already proposed in the NPRM.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-02-18, Amendment 39-16941 (77 FR 12175, February 29, 2012), and adding the following new AD:

2019-05-14 Dassault Aviation: Amendment 39-19596; Docket No. FAA-2018-1010; Product Identifier 2018-NM-148-AD.

(a) Effective Date

This AD becomes effective March 28, 2019.

(b) Affected ADs

This AD removes AD 2012-02-18, Amendment 39-16941 (77 FR 12175, February 29, 2012).

(c) Applicability

This AD applies to Dassault Aviation Model MYSTERE-FALCON 50 airplanes, all serial numbers, certificated in any category.

(d) Related Information

For more information about this AD, contact Tom Rodriguez, Aerospace Engineer, International Section, Transport Standards Branch, FAA, 2200 South 216th St., Des Moines, WA 98198; telephone and fax 206-231-3226.

Issued in Des Moines, Washington, on March 18, 2019.
Michael Kaszycki,
Acting Director, System Oversight Division, Aircraft Certification Service.

[FR Doc. 2019-05890 Filed 3-27-19; 8:45 am]

BILLING CODE 4910-13-P